DEPARTMENT OF DEFENSE

Department of the Air Force

HQ USAF Scientific Advisory Board

AGENCY: Department of the Air Force, DoD.

ACTION: Notice of meeting.

SUMMARY: Pursuant to Public Law 92-463, notice is hereby given of the forthcoming Center for Systems Engineering Audit meeting. The purpose of the meeting is review the curriculum and programs of the Center for Systems Engineering. Portions of this meeting may be closed to the public in accordance with section 552b of title 5, United States Code, specifically subparagraphs (c)(1) and (4) thereof.

DATES: September 8, 2004.

ADDRESSES: Washington, DC.

FOR FURTHER INFORMATION CONTACT: Maj Berg, Air Force Scientific Advisory Board Secretariat, 1180 Air Force Pentagon, Rm 5D982, Washington, DC 20330-1180, (703) 697-4811.

Pamela D. Fitzgerald,
Air Force Federal Register Liaison Officer.

[FR Doc. 04-21370 Filed 9-22-04; 8:45 am]

BILLING CODE 5001-05-M